DEPARTMENT OF THE INTERIOR

Bureau of Land Management

[LLNVSO0000.L58530000.ES0000; N-78725; 9-08807; TAS: 14X5232]

Lease/Conveyance of Public Lands for a City Park in Las Vegas, NV

AGENCY: Bureau of Land Management, Interior.

ACTION: Notice of realty action.

SUMMARY: The Bureau of Land Management has received a Recreation and Public Purposes (R&PP) Act request for lease and subsequent conveyance of approximately 10 acres of public land in Clark County for use as a public park. The parcel of land is located in the northwestern part of the Las Vegas Valley, northeast of the intersection of Alpine Ridge Way and Iron Mountain Road.

DATES: Interested parties may submit written comments regarding the proposed lease/ conveyance of the lands until May 11, 2009.

ADDRESSES: Mail written comments to the BLM Field Manager, Las Vegas Field Office, 4701 N. Torrey Pines Drive, Las Vegas, NV 89130.

FOR FURTHER INFORMATION CONTACT: Kimber Liebhauser (702) 515-5088.

SUPPLEMENTARY INFORMATION: The following described public land in Clark County, Nevada has been examined and found suitable for lease and subsequent conveyance under the provisions of the R&PP Act, as amended (43 U.S.C. 869 et seq.) and is legally described as:

Mount Diablo Meridian, Nevada

T. 19 S., R. 59 E.,

Sec. 1, W½NE¼SW¼SE¼ and E½NW¼SW¼SE¼.

The area described contains 10 acres, more or less.

In accordance with the R&PP Act, the City of Las Vegas filed an R&PP application to develop the above described land as a public park. The City of Las Vegas is a political subdivision of the State of Nevada and is therefore a qualified applicant under the R&PP Act.

The proposed park and related facilities include basketball courts, tennis courts, a children's play area, a children's splash pad play area, group picnic armadas, an interpretive natural trail, a multi-purpose trail, and an open grass play area. Additional detailed information pertaining to this application, plan of development, and site plan is in case file N-78725 at the BLM Las Vegas Field Office.

Lease and/or patent of the public land shall be subject to valid existing rights. Subject to limitations prescribed by law and regulation, prior to patent issuance, a holder of any right-of-way within the lease area may be given the opportunity to amend the right-of-way for conversion to a new term, including perpetuity, if applicable.

The land is not needed for any Federal purpose. The lease/conveyance is consistent with the BLM Las Vegas Resource Management Plan, dated October 5, 1998, and would be in the public interest. The lease/conveyance of N-78725, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The lease/conveyance will be subject to:

1. Valid existing rights.

On publication of this notice in the Federal Register, the land described will be segregated from all other forms of appropriation under the public land laws, including the general mining laws, except for lease/conveyance under the R&PP Act, leasing under the mineral leasing laws, and disposals under the mineral material disposal laws.

Interested parties may submit written comments regarding the specific use proposed in the application and plan of development, whether the BLM followed proper administrative procedures in reaching the decision to lease/convey under the R&PP Act, or any other factor not directly related to the suitability of the land for R&PP use. Any adverse comments will be reviewed by the BLM Nevada State Director, who may sustain, vacate, or modify this realty action. In the absence of any adverse comments, this realty action will become the final determination of the Department of the Interior.

Before including your address, phone number, e-mail address, or other personal identifying information in your comment, you should be aware that your entire comment—including your personal identifying information-may be made publicly available at any time. While you can ask us in your comment to withhold your personal identifying information from public review, we cannot guarantee that we will be able to do so.

Only written comments submitted by postal service or overnight mail to the Field Manager, BLM Las Vegas Field Office, will be considered properly filed. Electronic mail, facsimile, or telephone comments will not be considered properly filed. In the absence of any adverse comments, the decision will become effective on May 26, 2009. The lands will not be available for lease/conveyance until after the decision becomes effective.

Authority: 43 CFR 2741.5.

Dated: February 3, 2009.
Kimber Liebhauser,
Assistant Field Manager, Division of Lands, Las Vegas, Nevada.

[FR Doc. E9-6794 Filed 3-25-09; 8:45 am]

BILLING CODE 4310-HC-P